DEPARTMENT OF COMMERCE

International Trade Administration

[A-570-970]

Multilayered Wood Flooring From the People's Republic of China: Preliminary Results of the Antidumping Duty Administrative Review, Preliminary Determination of No Shipments, and Rescission of Review, in Part; 2015-2016

AGENCY: Enforcement and Compliance, International Trade Administration, Department of Commerce.

SUMMARY: The Department of Commerce (Commerce) is conducting an administrative review of the antidumping duty order on multilayered wood flooring (MLWF) from the People's Republic of China (China). The period of review (POR) is December 1, 2015, through November 30, 2016. The review covers two mandatory respondents, Jiangsu Senmao Bamboo and Wood Industry Co., Ltd. (Jiangsu Senmao) and Jilin Forest Industry Jinqiao Flooring Group Co., Ltd. (Jinqiao Flooring).

We preliminarily determine that sales of subject merchandise by Jiangsu Senmao have not been made at prices below normal value (NV) and that Jinqiao Flooring is not eligible for a separate rate and, therefore, remains part of the China-wide entity. In addition, we are preliminarily granting separate rates to 70 producers/exporters, including Jiangsu Senmao, and determine that 16 producer/exporters made no shipments of subject merchandise during the POR. Finally, we are rescinding the review with respect to Dalian Penghong Floor Products Co., Ltd. (Dalian Penghong). We invite interested parties to comment on these preliminary results.

DATES: Applicable January 16, 2018.

FOR FURTHER INFORMATION CONTACT: Sergio Balbontin or Michael Bowen, AD/CVD Operations, Office VIII, Enforcement and Compliance, International Trade Administration, U.S. Department of Commerce, 1401 Constitution Avenue NW, Washington, DC 20230; telephone: (202) 482-6478 and (202) 482-0768, respectively.

SUPPLEMENTARY INFORMATION:

Scope of the Order

The product covered by the Order is wood flooring from China. For a complete description of the scope of this administrative review, see the Preliminary Decision Memorandum.¹

¹ See Memorandum to Gary Taverman, Deputy Assistant Secretary for Antidumping and Countervailing Duty Operations, performing the non-exclusive functions and duties of the Assistant Secretary for Enforcement and Compliance, from James P. Maeder Senior Director performing the duties of Deputy Assistant Secretary for Antidumping and Countervailing Duty Operations, “Decision Memorandum for the Preliminary Results in the Antidumping Duty Administrative Review; Multilayered Wood Flooring from the People's Republic of China; 2015-2016,” (Preliminary Decision Memorandum), dated concurrently with, and hereby adopted by, this notice.

Partial Rescission of Review

Commerce initiated a review of 116 companies in this administrative review. ² The requests for review of Dalian Penghong were timely withdrawn.³ Accordingly, we are rescinding the administrative review with respect to this company.⁴

² See Initiation of Antidumping and Countervailing Duty Administrative Reviews, 82 FR 10457 (February 13, 2017) (Initiation Notice); see also Initiation of Antidumping and Countervailing Duty Administrative Reviews, 82 FR 57705 (December 7, 2017) (Second Initiation Notice). Commerce notes that the Second Initiation Notice contained a typographical error in the spelling of “Dun Hua Sen Tai Wood Co., Ltd.” This determination corrects the second notice of initiation and reflects the accurate spelling.

³ See Letters from the Coalition for American Hardwood Parity, “Partial Withdrawal of Request for Administrative Review: Multilayered Wood Flooring from the People's Republic of China,” and Dalian Penghong, “Multilayered Wood Flooring from the People's Republic of China; Withdrawal of Request for Review,” both dated March 27, 2017.

⁴ See 19 CFR 351.213(d)(1).

Preliminary Determination of No Shipments

Sixteen companies submitted timely-filed certifications that they had no exports, sales, or entries of subject merchandise during the POR. Accordingly, Commerce, consistent with its practice, requested that U.S. Customs and Border Protection (CBP) conduct a query of potential shipments made by these companies. Based on an analysis of the CBP information and the no shipment certifications, Commerce preliminarily determines that these 16 companies had no shipments during the POR.⁵ For additional information regarding this determination, see the Preliminary Decision Memorandum.

⁵ See Appendix II for a list of these companies.

Consistent with our practice in non-market economy (NME) cases, Commerce is not rescinding this administrative review with respect to these companies but, rather, intends to complete the review and issue appropriate instructions to CBP based on the final results of the review.⁶

⁶ See Non-Market Economy Antidumping Proceedings: Assessment of Antidumping Duties, 76 FR 65694, 65694-95 (October 24, 2011) (NME AD Assessment) and the “Assessment Rates” section, below.

Separate Rates

Commerce preliminarily determines that 70 respondents are eligible for separate rates in this review.⁷

⁷ See Preliminary Decision Memorandum at 8-14, for more details.

Separate Rates for Eligible Non-Selected Respondents

In accordance with the U.S. Court of Appeals for the Federal Circuit's decision in Albemarle Corp. v. United States,⁸ we assigned to eligible non-selected respondents the separate rate we assigned to Jiangsu Senmao ⁹ for the preliminary results of this review.

⁸ See Albemarle Corp. & Subsidiaries v. United States, 821 F.3d 1345 (Fed. Cir. 2016).

⁹ See Memorandum, “Preliminary Results Margin Calculation for Jiangsu Senmao Bamboo and Wood Industry Co., Ltd.,” dated concurrently with this notice (Preliminary Results Memorandum).

China-Wide Entity

Commerce's policy regarding conditional review of the China-wide entity applies to this administrative review.¹⁰ Under this policy, the China-wide entity will not be under review unless a party specifically requests, or Commerce self-initiates, a review of the entity. Because no party requested a review of the China-wide entity, the entity is not under review and the entity's rate is not subject to change. Aside from the no shipments companies discussed above, and the company for which the review is being rescinded, Commerce considers all other companies for which a review was requested and which did not preliminarily qualify for a separate rate, to be part of the China-wide entity.¹¹ For additional information, see the Preliminary Decision Memorandum.

¹⁰ See Antidumping Proceedings: Announcement of Change in Department Practice for Respondent Selection in Antidumping Duty Proceedings and Conditional Review of the Nonmarket Economy Entity in NME Antidumping Duty Proceedings, 78 FR 65963 (November 4, 2013).

¹¹ See Initiation Notice (“All firms listed below that wish to qualify for separate rate status in the administrative reviews involving NME countries must complete, as appropriate, either a separate rate application or certification, as described below.”) Companies that are subject to this administrative review that are considered to be part of the China-wide entity are listed in Appendix II.

Methodology

Commerce is conducting this review in accordance with section 751(a) (1) (B) of the Tariff Act of 1930, as amended (the Act). We calculated export price for Jiangsu Senmao in accordance with section 772 of the Act. Because China is a NME within the meaning of section 771(18) of the Act, we calculated NV in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov and in the Central Records Unit, Room B8024 of the main Commerce building. In addition, a complete version of the Preliminary Decision Memorandum can be accessed directly on the internet at http://enforcement.trade.gov/frn/index.html. The signed Preliminary Decision Memorandum and the electronic version of the Preliminary Decision Memorandum are identical in content. A list of topics discussed in the Preliminary Decision Memorandum is included as Appendix I to this notice.

Preliminary Results of Review

In this administrative review, we preliminarily calculated a weighted-average dumping margin for Jiangsu Senmao of zero.¹² We assigned this rate to the companies subject to this review who established their eligibility for a separate rate.

¹² See Preliminary Results Memorandum.

Commerce preliminarily finds that Jinqiao Flooring did not establish eligibility for a separate rate, and is therefore considered to be part of the China-wide entity.¹³ Because no party requested a review of the China-wide entity, the entity is not under review, and the China-wide entity's rate of 25.62 percent from the investigation is not subject to change. For additional information regarding this determination, see the Preliminary Decision Memorandum.

¹³ See Preliminary Decision Memorandum and “Preliminary Separate Rate Analysis Memorandum for Jilin Forest Industry Jinqiao Flooring Group Co., Ltd.,” dated concurrently with this notice.

For companies subject to this review that have established their eligibility for a separate rate, Commerce preliminarily determines that the following weighted-average dumping margins exist for the period December 1, 2015, through November 30, 2016:

Exporters | Weighted- average dumping margin (percent)
A&W (Shanghai) Woods Co., Ltd | 0.0
Anhui Longhua Bamboo Product Co., Ltd | 0.0
Baishan Huafeng Wooden Product Co., Ltd | 0.0
Benxi Wood Company | 0.0
Changzhou Hawd Flooring Co., Ltd | 0.0
Dalian Dajen Wood Co., Ltd | 0.0
Dalian Guhua Wood Product Co., Ltd | 0.0
Dalian Huade Wood Product Co., Ltd | 0.0
Dalian Huilong Wooden Products Co., Ltd | 0.0
Dalian Jaenmaken Wood Industry Co., Ltd | 0.0
Dalian Kemian Wood Industry Co., Ltd | 0.0
Dalian Xinjinghua Wood Co., Ltd | 0.0
Dongtai Fuan Universal Dynamics, LLC | 0.0
Dunhua City Jisen Wood Industry Co., Ltd | 0.0
Dunhua City Dexin Wood Industry Co., Ltd | 0.0
Dunhua City Hongyuan Wood Industry Co., Ltd | 0.0
Dunhua City Wanrong Wood Industry Co., Ltd | 0.0
Dunhua Shengda Wood Industry Co., Ltd | 0.0
Dun Hua Sen Tai Wood Co., Ltd | 0.0
Fine Furniture (Shanghai) Limited | 0.0
Fusong Jinlong Wooden Group Co., Ltd | 0.0
Fusong Jinqiu Wooden Product Co., Ltd | 0.0
Fusong Qianqiu Wooden Product Co., Ltd | 0.0
Guangzhou Panyu Kangda Board Co., Ltd | 0.0
Guangzhou Panyu Southern Star Co., Ltd | 0.0
HaiLin LinJing Wooden Products, Ltd | 0.0
Hangzhou Hanje Tec Co., Ltd | 0.0
Hunchun Forest Wolf Wooden Industry Co., Ltd | 0.0
Hunchun Xingjia Wooden Flooring Inc | 0.0
Huzhou Chenghang Wood Co., Ltd | 0.0
Huzhou Fulinmen Imp. & Exp. Co., Ltd | 0.0
Huzhou Jesonwood Co., Ltd | 0.0
Huzhou Sunergy World Trade Co., Ltd | 0.0
Jiangsu Guyu International Trading Co., Ltd | 0.0
Jiangsu Kentier Wood Co., Ltd | 0.0
Jiangsu Mingle Flooring Co | 0.0
Jiangsu Senmao Bamboo and Wood Industry Co., Ltd | 0.0
Jiangsu Simba Flooring Co., Ltd | 0.0
Jiashan Huijiale Decoration Material Co., Ltd | 0.0
Jiaxing Hengtong Wood Co., Ltd | 0.0
Jilin Xinyuan Wooden Industry Co., Ltd | 0.0
Karly Wood Product Limited | 0.0
Kember Flooring, Inc | 0.0
Kemian Wood Industry (Kunshan) Co., Ltd | 0.0
Linyi Anying Wood Co., Ltd | 0.0
Linyi Youyou Wood Co., Ltd | 0.0
Metropolitan Hardwood Floors, Inc | 0.0
Mudanjiang Bosen Wood Industry Co., Ltd | 0.0
Nakahiro Jyou Sei Furniture (Dalian) Co., Ltd | 0.0
Pinge Timber Manufacturing (Zhejiang) Co., Ltd | 0.0
Scholar Home (Shanghai) New Material Co. Ltd | 0.0
Shanghai Lairunde Wood Co., Ltd | 0.0
Shenyang Haobainian Wooden Co., Ltd | 0.0
Shenzhenshi Huanwei Woods Co., Ltd | 0.0
Sino-Maple (Jiangsu) Co., Ltd | 0.0
Suzhou Dongda Wood Co., Ltd | 0.0
Tongxiang Jisheng Import and Export Co., Ltd | 0.0
Xiamen Yung De Ornament Co., Ltd | 0.0
Xuzhou Antop International Trade Co., Ltd | 0.0
Xuzhou Shenghe Wood Co., Ltd | 0.0
Yekalon Industry, Inc | 0.0
Yihua Lifestyle Technology Co., Ltd | 0.0
Yingyi-Nature (Kunshan) Wood Industry Co., Ltd | 0.0
Zhejiang Biyork Wood Co., Ltd | 0.0
Zhejiang Dadongwu Green Home Wood Co., Ltd | 0.0
Zhejiang Fudeli Timber Industry Co., Ltd | 0.0
Zhejiang Fuerjia Wooden Co., Ltd | 0.0
Zhejiang Fuma Warm Technology Co., Ltd | 0.0
Zhejiang Longsen Lumbering Co., Ltd | 0.0
Zhejiang Shiyou Timber Co., Ltd | 0.0

Disclosure and Public Comment

Commerce intends to disclose to the parties the calculations performed for these preliminary results within five days of the date of publication of this notice in accordance with 19 CFR 351.224(b). Interested parties may submit case briefs no later than 30 days after the date of publication of these preliminary results of review.¹⁴ Rebuttals to case briefs may be filed no later than five days after the written comments are filed, and all rebuttal comments must be limited to comments raised in the case briefs.¹⁵

¹⁴ See 19 CFR 351.309(c).

¹⁵ See 19 CFR 351.309(d).

Pursuant to 19 CFR 351.309(c)(2) and (d)(2), parties who submit case briefs or rebuttal briefs in this review are encouraged to submit with each argument: (1) A statement of the issue; (2) a brief summary of the argument; and (3) a table of authorities.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Unless otherwise extended, Commerce intends to issue the final results of this administrative review, which will include the results of our analysis of the issues raised in the case briefs, within 120 days of publication of these preliminary results in the Federal Register, pursuant to section 751(a)(3)(A) of the Act.

Assessment Rates

Upon issuance of the final results, Commerce will determine, and CBP shall assess, antidumping duties on all appropriate entries covered by this review, in accordance with 19 CFR 351.212(b). For the company for which this review is rescinded, antidumping duties shall be assessed at rates equal to the cash deposit of estimated antidumping duties required at the time of entry, or withdrawal from warehouse, for consumption, in accordance with 19 CFR 351.212(c)(1)(i). Commerce intends to issue appropriate assessment instructions with respect to the companies for which this review is rescinded to CBP 15 days after the publication of this notice.

For the remaining companies subject to review, and for which we do not make a final determination of no shipments, Commerce will direct CBP to assess rates based on the per-unit (i.e., per square meter) amount on each entry of the subject merchandise during the POR. For the respondents that were not selected for individual examination in this administrative review but qualified for a separate rate, the assessment rate will be equal to the weighted-average dumping margin assigned to Jiangsu Senmao in the final results of this review.¹⁶ If Jiangsu Senmao's weighted-average dumping margin is zero or de minimus (i.e., less than 0.5 percent), Commerce will instruct CBP to liquidate the appropriate entries without regard to antidumping duties. Commerce intends to issue assessment instructions to CBP 15 days after the publication date of the final results of review. For entries that were not reported in the U.S. sales databases submitted by the companies individually examined during this review, Commerce will instruct CBP to liquidate such entries at the China-wide rate. In addition, if we continue to find no shipments of subject merchandise for the 16 companies that reported no such shipments during the POR,¹⁷ any suspended entries of subject merchandise from those companies will be liquidated at the China-wide rate.¹⁸

¹⁶ See Drawn Stainless Steel Sinks from the People's Republic of China: Preliminary Results of the Antidumping Duty Administrative Review and Preliminary Determination of No Shipments: 2014-2015, 81 FR 29528 (May 12, 2016), and accompanying Preliminary Decision Memorandum at 10-11; unchanged in Drawn Stainless Steel Sinks from the People's Republic of China: Final Results of Antidumping Duty Administrative Review; Final Determination of No Shipments; 2014-2015, 81 FR 54042 (August 15, 2016).

¹⁷ See Appendix II for a list of these companies.

¹⁸ See Non-Market Economy Antidumping Proceedings: Assessment of Antidumping Duties, 76 FR 65694, 65695 (October 24, 2011).

Cash Deposit Requirements

The following cash deposit requirements will be effective upon publication of the final results of this administrative review for all shipments of the subject merchandise from China entered, or withdrawn from warehouse, for consumption on or after the publication date, as provided for by section 751(a)(2)(C) of the Act: (1) For the companies listed above that have a separate rate, the cash deposit rate will be that rate established in the final results of this review (except, if the rate is de minimis, then a cash deposit rate of zero will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be the rate for the China-wide entity, which is 25.62 percent; and (4) for all non-China exporters of subject merchandise that have not received their own rate, the cash deposit rate will be the rate applicable to China exporter(s) that supplied that non-China exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties.

We are issuing and publishing these preliminary results of review in accordance with sections 751(a)(l) and 777(i)(l) of the Act and 19 CFR 351.221(b)(4).

Dated: January 2, 2018.
Christian Marsh,
Deputy Assistant Secretary for Enforcement and Compliance.

Appendix I—List of Topics Discussed in the Preliminary Decision Memorandum

I. Summary

II. Background

III. Period of Review

IV. Scope of the Order

V. Selection of Respondents

VI. Partial Rescission of Review

VII. Preliminary Determination of No Shipments

VIII. Discussion of the Methodology

A. Non-Market Economy Country Status

B. Separate Rate Determinations

1. Wholly Foreign-Owned Applicants

2. Mandatory Respondents and the Remaining Separate Rate Applicants

a. Absence of De Jure Control

b. Absence of De Facto Control

3. China-Wide Entity

C. Weighted-Average Dumping Margin for Non-Examined Separate-Rate Companies

D. Surrogate Country and Surrogate Value Data

1. Surrogate Country Selection

2. Economic Comparability

3. Significant Producer of Comparable Merchandise

4. Data Availability

E. Date of Sale

F. Comparisons to Normal Value

1. Determination of Comparison Method

2. Results of the Differential Pricing Analysis

G. U.S. Price

1. Export Price

2. Value-Added Tax

H. Normal Value

1. Factor Valuation Methodology

a. Direct and Packing Materials

b. Labor

c. Financial Ratios

d. By-Products

I. Adjustment Under Section 777A(f) of the Act

J. Currency Conversion

IX. Recommendation

Appendix II

No-Shipment Certifications

Anhui Boya Bamboo & Wood Products Co., Ltd.

Changbai Mountain Development and Protection Zone Hongtu Wood Industrial Co., Ltd.

Chinafloors Timber (China) Co, Ltd.

Dalian Jiahong Wood Industry Co., Ltd.

Guangzhou Homebon Timber Manufacturing Co., Ltd.

Huzhou Muyun Wood Co., Ltd.

Jiangsu Keri Wood Co., Ltd.

Jiangsu Yuhui International Trade Co., Ltd.

Jiashan On-Line Lumber Co., Ltd.

Kingman Floors Co., Ltd.

Les Planchers Mercier, Inc.

Linyi Bonn Flooring Manufacturing Co., Ltd.

Power Dekor Group Co., Ltd.

Shanghai Lizhong Wood Products Co., Ltd.

Zhejiang Shuimojiangnan New Material Technology Co., Ltd.

Zhejiang Simite Wooden Co., Ltd.

China-Wide Entity Companies

Anhui Suzhou Dongda Wood Co., Ltd.

Baishan Huafeng Wood Product Co., Ltd.

Baiying Furniture Manufacturer Co., Ltd.

Cheng Hang Wood Co., Ltd.

Dalian Jiuyuan Wood Industry Co., Ltd.

Dalian Qinqui Wooden Product Co., Ltd.

Dongtai Zhangshi Wood Industry Co., Ltd.

Fu Lik Timber (HK) Co., Ltd.

GTP International Ltd.

Guangdong Yihua Timber Industry Co., Ltd.

HaiLin Xincheng Wooden Products, Ltd.

Hangzhou Dazhuang Floor Co., Ltd. (dba Dasso Industrial Group Co., Ltd.)

Hangzhou Huahi Wood Industry Co., Ltd.

Huber Engineering Wood Corp.

Huzhou City Nanxun Guangda Wood Co., Ltd.

Huzhou Fuma Wood Co., Ltd.

Jiafeng Wood (Suzhou) Co., Ltd.

Jilin Forest Industry Jinqiao Flooring Group Co., Ltd.

Qingdao Barry Flooring Co., Ltd.

Shandong Kaiyuan Wood Industry Co., Ltd.

Shanghai Anxin (Weiguang) Timber Co., Ltd.

Shanghai Eswell Timber Co., Ltd.

Shanghai New Sihe Wood Co., Ltd.

Shanghai Shenlin Corporation

Vicwood Industry (Suzhou) Co., Ltd.

Yixing Lion-King Timber Industry

Zhejiang AnJi Xinfeng Bamboo and Wood Industry Co., Ltd.

Zhejiang Desheng Wood Industry Co., Ltd.

Zhejiang Haoyun Wooden Co., Ltd.

[FR Doc. 2018-00573 Filed 1-12-18; 8:45 am]

BILLING CODE 3510-DS-P